OFFICE OF PERSONNEL MANAGEMENT

Submission for Review: Application for Deferred or Postponed Retirement: FERS, RI 92-19

AGENCY: Office of Personnel Management.

ACTION: 30-Day notice and request for comments.

SUMMARY: The Retirement Services, Office of Personnel Management (OPM) offers the general public and other Federal agencies the opportunity to comment on a revised information collection request (ICR), Application for Deferred or Postponed Retirement: FERS, RI 92-19.

DATES: Comments are encouraged and will be accepted until August 17, 2020.

ADDRESSES: Interested persons are invited to submit written comments on the proposed information collection to Office of Information and Regulatory Affairs, Office of Management and Budget, 725 17th Street NW, Washington, DC 20503, Attention: Desk Officer for the Office of Personnel Management or sent by email to oira_submission@omb.eop.gov or faxed to (202) 395-6974.

FOR FURTHER INFORMATION CONTACT: A copy of this information collection, with applicable supporting documentation, may be obtained by contacting the Retirement Services Publications Team, Office of Personnel Management, 1900 E Street NW, Room 3316-L, Washington, DC 20415, Attention: Cyrus S. Benson, or sent via electronic mail to Cyrus.Benson@opm.gov or faxed to (202) 606-0910 or via telephone at (202) 606-4808.

SUPPLEMENTARY INFORMATION: As required by the Paperwork Reduction Act of 1995 OPM is soliciting comments for this collection. The information collection (OMB No. 3206-0190) was previously published in the Federal Register on March 23, 2020 at 85 FR 16390, allowing for a 60-day public comment period. The following comment was received: “a. Recommend that Section H (page 3) be updated for the Direct Debit program. (The provided hyperlink for Direct Express cards—www.godirect.org—is not a valid URL. The correct URL is www.godirect.gov.) b. Recommend that Section B(3) on p. 6 be expanded to have more than five entries for agencies, as most contemporary retirees work for multiple agencies throughout their federal tenure. If additional boxes cannot be provided, recommend adding a note stating that deferred retiree applicants can include additional service on an attached document.” In response, we are in agreement with the commenter's recommendations and corrected the hyperlink to godirect.gov from godirect.org as well as made changes to the form in the event an applicant has additional federal service. The purpose of this notice is to allow an additional 30 days for public comments. The Office of Management and Budget is particularly interested in comments that:

1. Evaluate whether the proposed collection of information is necessary for the proper performance of functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

RI 92-19 is used by separated employees to apply for either a deferred or a postponed FERS annuity benefit.

Analysis

Agency: Retirement Operations, Retirement Services, Office of Personnel Management.

Title: Application for Deferred or Postponed Retirement: FERS.

OMB: 3206-0190.

Frequency: On occasion.

Affected Public: Individuals or Households.

Number of Respondents: 1,964.

Estimated Time per Respondent: 60 minutes.

Total Burden Hours: 1,964 hours.

Office of Personnel Management.
Alexys Stanley,
Regulatory Affairs Analyst.

[FR Doc. 2020-15456 Filed 7-16-20; 8:45 am]

BILLING CODE 6325-38-P